NUCLEAR REGULATORY COMMISSION

[Docket Nos. 52-034 and 52-035, NRC-2008-0594]

Luminant Generation Company LLC.; Notice of Availability of the Final Environmental Impact Statement for Combined Licenses for Comanche Peak Nuclear Power Plant Units 3 and 4

Notice is hereby given that the U.S. Nuclear Regulatory Commission (NRC) and the U.S. Army Corps of Engineers, Fort Worth District as a cooperating agency have published a final environmental impact statement (EIS), NUREG-1943, “Environmental Impact Statement for Combined Licenses (COLs) for Comanche Peak Nuclear Power Plant Units 3 and 4: Final Report.” The site comprises approximately 7,950 acres in Hood and Somervell Counties, Texas on the Squaw Creek Reservoir approximately 5.2 miles (mi) north of Glen Rose, Texas.

The draft EIS was published by the NRC in August 2010; a notice of availability appeared in the Federal Register on August 12, 2010 (75 FR 48998). The purpose of this notice is to inform the public that the final EIS is available for public inspection. The final EIS may be viewed online at: http://www.nrc.gov/reading-rm/doc-collections/nuregs/staff/sr1943/. In addition, the final EIS is available for inspection in the NRC Public Document Room (PDR) located at One White Flint North, 11555 Rockville Pike Rockville, MD 20852 or from NRC's Agency-wide Documents Access and Management System (ADAMS). ADAMS is accessible from the NRC Web site at http://www.nrc.gov/reading-rm/adams.html. The final EIS is available in two volumes under accession numbers ML11131A001 and ML11131A002. Persons who do not have access to ADAMS or who encounter problems in accessing the documents located in ADAMS should contact the PDR reference staff by telephone at 1-800-397-4209 and 1-301-415-4737 or by sending an e-mail to pdr.resource@nrc.gov. In addition, the Somervell County Library, 108 Allen Drive, Glen Rose, Texas 76043 and the Hood County Library, 222 North Travis Street, Granbury, Texas 76048 has agreed to make the EIS available to the public.

FOR FURTHER INFORMATION CONTACT: Mr. Michael Willingham, Environmental Projects Branch 1, U.S. Nuclear Regulatory Commission, Mail Stop T7-E30, Washington, DC 20555-0001. Mr. Willingham may be contacted by telephone at 301-415-3924 or via e-mail at Michael.Willingham@nrc.gov.

Dated at Rockville, Maryland, this 13th day of May, 2011.
For the Nuclear Regulatory Commission.
Gregory P. Hatchett,
Acting Deputy Director, Division of Site and Environmental Reviews, Office of New Reactors.

[FR Doc. 2011-12446 Filed 5-19-11; 8:45 am]

BILLING CODE 7590-01-P